DEPARTMENT OF HOMELAND SECURITY

United States Immigration and Customs Enforcement

Agency Information Collection Activities: Emergency Submission to OMB, Comment Request Action: 30-Day Notice of Information Collection Under Review; IDENT/IAFIS Interoperability Assessment

The Department of Homeland Security, U.S. Immigration and Customs Enforcement (USICE), has submitted the following emergency information collection, utilizing emergency review procedures, to the Office of Management and Budget (OMB) for review and clearance in accordance with the Paperwork Reduction Act of 1995 (Pub. L. 104-13, 44 U.S.C. Chapter 35). The purpose of this notice is to allow 30 days for public comments. Comments are encouraged and will be accepted for thirty days until August 11, 2008. This process is conducted in accordance with 5 CFR 1320.10.

Interested persons are invited to submit written comments on the proposed information collection to the Office of Information and Regulatory Affairs, Office of Management and Budget. Comments should be addressed to OMB Desk Officer, for the United States Immigration and Customs Enforcement, Department of Homeland Security, and sent via electronic mail to oira_submission@omb.eop.gov or faxed to (202) 395-6974.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Emergency Request for Information Collection Approval.

(2) Title of the Form/Collection: IDENT/IAFIS Interoperability Assessment.

(3) Agency form number, if any, and the applicable component of the Department of Homeland Security sponsoring the collection: No form number; United States Immigration and Customs Enforcement.

Affected public who will be asked or required to respond, as well as a brief abstract: Primary: State and Local Correctional Facilities. 8 U.S.C. 1231 (a) gives The Department of Homeland Security (DHS) Immigration and Customs Enforcement (ICE) authority to remove criminal aliens who have been ordered as such. The U.S. Department of Homeland Security (DHS), Immigration and Customs Enforcement (ICE) is improving community safety by transforming the way the federal government cooperates with state and local law enforcement agencies to identify, detain, and remove all criminal aliens held in custody. Secure Communities (SC) will revolutionize immigration enforcement by using technology to share information between law enforcement agencies and by applying risk-based methodologies to focus resources on assisting all local communities remove high-risk criminal aliens.

In order to implement Secure Communities, ICE must collect detailed business requirements and input from its state and local law enforcement partners. ICE will interview law enforcement officials at over 3,500 state and local jails across the United States as part of the Secure Communities Initiative. The collection of information involves the use of information technology permitting electronic submissions of responses through the use of an online survey. This survey will determine the fingerprint procedures and technological capabilities of state and local jails governance, as well as basic jail booking statistics. This information will be used in order to prioritize local sites and deliver the implementation strategy of the Secure Communities Initiative.

(5) An estimate of the total number of respondents and the amount of time estimated for an average respondent to respond: 3,500 responses at 30 minutes (.50) per response.

(6) An estimate of the total public burden (in hours) associated with the collection: 1,750 annual burden hours.

Requests for a copy of the proposed information collection instrument, with instructions; or inquiries for additional information should be directed to: Lee Shirkey, Chief, Records Management Branch, Bureau of Immigration and Customs Enforcement, 425 I Street, NW., Room 1122, Washington, DC 20536; (202) 353-2266.

Dated: July 8, 2008.
Lee Shirkey,
Chief, Records Management Branch, Bureau of Immigration and Customs Enforcement, Department of Homeland Security.

[FR Doc. E8-15846 Filed 7-10-08; 8:45 am]

BILLING CODE 9111-28-P